OFFICE OF MANAGEMENT AND BUDGET

Office of Federal Procurement Policy

Rescission of Office of Federal Procurement Policy; Policy Letters 77-2, 78-2, 78-3, 78-4, 79-1, 79-2, 80-3, 80-6, 80-8, 81-1, 81-2, 82-1, 83-1, 83-2, 83-3, 84-1, 85-1, 89-1, 91-2, 91-4, 92-5, and 95-1

AGENCY: Office of Management and Budget, Office of Federal Procurement Policy.

ACTION: Rescission of Office of Federal Procurement Policy (OFPP) Policy Letters 77-2, 78-2, 78-3, 78-4, 79-1, 79-2, 80-3, 80-6, 80-8, 81-1, 81-2, 82-1, 83-1, 83-2, 83-3, 84-1, 85-1, 89-1, 91-2, 91-4, 92-5, and 95-1.

SUMMARY: Notice is hereby given that the Office of Federal Procurement Policy (OFPP) is rescinding the following OFPP Policy Letters: 77-2, Section 502(c) of Pub. L. 95-89; 78-2, Preventing “Wage Busting” for Professionals: Procedures for Evaluating Contractor Proposals for Service Contracts; 78-3, Requests for Disclosure of Contractor-Supplied Information Obtained in the Course of a Procurement; 78-4, Field Contract Support Cross-Servicing Program; 79-1, Implementation of Section 15(k) of the Small Business Act, as amended: Office of Small and Disadvantaged Business Utilization; 79-2, Boards of Contract Appeals: Position Allocation Pursuant to Public Law 95-563; 80-3, Regulatory Guidance on Pub. L. 95-563, the Contract Disputes Act of 1978; 80-6, Regulatory Guidance on Section 221 of Public Law 95-507; 80-8, Establishment of Procurement Data Reporting Requirements to Comply with Public Law 96-39 (as amended by Transmittal Memoranda Nos. 1, 2, and 3); 81-1, Procurement Procedures, Advance Procurement Planning, and Review of End-of-Year Purchases; 81-2, Policy Guidance for the Labor Surplus Area Programs; 82-1, Policy Guidance Concerning Government-wide Debarment, Suspension, and Ineligibility; 83-1, Withholding of Funds from Construction Contract Progress Payments; 83-2, Publicizing the Development of Procurement Policies and Regulations; 83-3, Procurement of Architect-Engineer Services, 84-1, Federally Funded Research and Development Centers; 85-1, Federal Acquisition Regulations System; 89-1, Conflict of Interest Policies Applicable to Consultants; 91-2, Service Contracting; 91-4, Use of Irrevocable Letters of Credit; 92-5, Past Performance Information; and 95-1, Subcontracting Plans for Companies Supplying Commercial Items.

EFFECTIVE DATE: March 30, 2000.

FOR FURTHER INFORMATION CONTACT: Michael Gerich, Office of Federal Procurement Policy, 202-395-3501.

SUPPLEMENTARY INFORMATION: OFPP issued a notice of proposed rescission of these 22 Policy Letters that was published in the Federal Register on September 15, 1999 (64 FR 50108). No comments were received in response to the notice of proposed rescission.

As indicated in the Supplementary Information section of that notice, the rescission of these 22 Policy Letters reflects OFPP's conclusion that the Federal Acquisition Regulation (FAR), as written, contains the current policy. Any policy embodied in the Policy Letters rescinded by this notice that is not reflected in the current FAR has been either superseded by subsequent statutory changes or is otherwise no longer necessary. Accordingly, OFPP Policy Letters 77-2, 78-2, 78-3, 78-4, 79-1, 79-2, 80-3, 80-6, 80-8, 81-1, 81-2, 82-1, 83-1, 83-2, 83-3, 84-1, 85-1, 89-1, 91-2, 91-4, 92-5, and 95-1 are hereby rescinded. No substantive FAR change is required by this action.

Eleven OFPP Policy Letters remain in effect. Copies of those Policy Letters can be obtained at the ARNet world wide website, http://www.arnet.gov/ Library/OFPP/PolicyLetters.

Deidre A. Lee,
Administrator.

[FR Doc. 00-7803 Filed 3-29-00; 8:45 am]

BILLING CODE 3110-01-P